FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 24, 2009.

A. Federal Reserve Bank of Chicago (Colette A. Fried, Assistant Vice President) 230 South LaSalle Street, Chicago, Illinois 60690-1414:

1. Bruce J. Essex, Yvonne M. Essex, both of Whitehall, Michigan, and Bruce J. Essex, Jr., North Muskegon, Michigan; to retain voting shares of Community Shores Bank Corporation, and thereby indirectly retain control of Community Shores Bank, both of Muskegon, Michigan.

B. Federal Reserve Bank of St. Louis (Glenda Wilson, Community Affairs Officer) P.O. Box 442, St. Louis, Missouri 63166-2034:

1. Terry R. Fuller, Jerry W. Fuller, Mary S. Fuller, and the estate of Ray C. Fuller (co-executors are Terry R. Fuller, Jerry W. Fuller, and Cheryl F. Heuer), all of Poplar Grove, Arkansas, as a group acting in concert; to acquire voting shares of Helena Bancshares, Inc., and thereby indirectly acquire voting shares of Helena National Bank, both of Helena, Arkansas.

Board of Governors of the Federal Reserve System, April 6, 2009.
Robert deV. Frierson,
Deputy Secretary of the Board.

[FR Doc. E9-8120 Filed 4-8-09; 8:45 am]

BILLING CODE 6210-01-S